DEPARTMENT OF AGRICULTURE

Food and Nutrition Service

Agency Information Collection Activities: Proposed Collection; Comment Request—Study of Nutrition and Activity in Child Care Settings II (SNACS-II)

AGENCY: Food and Nutrition Service (FNS), USDA.

ACTION: Notice.

SUMMARY: In accordance with the Paperwork Reduction Act of 1995, this notice invites the general public and other public agencies to comment on this proposed information collection. This collection is a new collection for the Study of Nutrition and Activity in Child Care Settings II (SNACS-II).

DATES: Written comments must be received on or before April 19, 2021.

ADDRESSES: Comments may be sent to: Constance Newman, Food and Nutrition Service, U.S. Department of Agriculture, 1320 Braddock Place, Alexandria, VA 22314, 202-213-9856. Comments may also be submitted via fax to the attention of Constance Newman at 703-305-2576 or via email to constance.newman@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Constance Newman at 202-213-9856.

SUPPLEMENTARY INFORMATION:

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Study of Nutrition and Activity in Child Care Settings II (SNACS-II).

Form Number: N/A.

OMB Number: Not Yet Assigned.

Expiration Date: Not Yet Determined.

Type of Request: New Collection.

Abstract: The Child and Adult Care Food Program (CACFP), administered by the U.S. Department of Agriculture (USDA) Food and Nutrition Service (FNS), provides reimbursement for nutritious meals and snacks served to eligible children enrolled in participating child care programs. Reimbursable meals and snacks must meet CACFP's meal pattern requirements.

SNACS-II is the second comprehensive, nationally representative assessment of CACFP providers and the infants, children, and teens they serve. It will update the picture of the CACFP after updated meal pattern requirements went into effect in October 2017. Under the updated requirements, CACFP meals and snacks must include a wider variety of fruits and vegetables, more whole grains, and less added sugar and saturated fat. The updated requirements are also designed to encourage breastfeeding.

SNACS-II will collect data in program year 2022-2023 to address eight broad objectives: (1) CACFP provider characteristics, (2) nutritional quality of foods offered, (3) children's dietary intakes, (4) children's physical activity and household characteristics, (5) CACFP plate waste, (6) teens' physical activity and household characteristics, (7) infants' dietary intakes and physical activity while in care, and (8) the cost to produce CACFP meals and snacks. SNACS-II will largely replicate the methods used in the first Study of Nutrition and Activity in Child Care Settings because comparing key outcomes at the two points in time is an important focus of the study. SNACS-II will collect data from nationally representative samples of CACFP providers, including family day care homes, child care centers, Head Start centers, at-risk afterschool centers, and outside-school-hours care centers; infants, children, and teens; and parents/guardians. To address the array of research questions under the eight study objectives, the data collection activities to be undertaken subject to this notice include the following:

• The Provider Survey and Environmental Observation Form will be used to describe the characteristics of CACFP providers.

• The Menu Survey will be used to assess the nutritional quality of foods offered.

• The Meal Observation Booklet and the Automated Self-Administered 24-Hour dietary recall interview (ASA24) will be used to describe children's dietary intakes.

• The Parent Interview and Height and Weight Form collect data on children's physical activity and household characteristics.

• The Food and Physical Activity Experiences Survey and Teen Parent Interview collect data on teens' physical activity and household characteristics.

• The Infant Menu Survey will be used to assess the nutrition quality of foods offered to infants. The Infant Intake Form collect information on infants' dietary intakes while in care.

• The Pre-Visit Cost Interview, Pre-Visit Cost Form, Sponsor/Center Cost Interview, Center Director Cost Interview, Center Food Service Cost Interview, and Self-Administered Cost Questionnaire collect information on the cost to produce CACFP meals and snacks.

Personally identifiable information (PII) will not be used to retrieve survey records or data.

Affected Public: State and local government respondents are CACFP State agency managers. For-profit and not-for-profit business respondents include (1) sponsor staff, (2) directors, (3) food preparers, and (4) provider staff. Individual respondents include (1) children, (2) teens, and (3) their parents/guardians.

Estimated Number of Respondents: A total of 16,301 members of the public will be initially contacted to participate in the study. This includes 25 State and local government respondents, 5,880 for-profit and not-for-profit business respondents, and 10,396 individuals. Initial contact will vary by type of respondent and may include study notification and recruiting or data collection. FNS anticipates that approximately 11,677 of these individuals will respond to initial contact, and 6,382 will not respond. Some who respond to the initial contact may subsequently become nonrespondents to one or more components of the data collection. The number of unique respondents expected to provide data for the study is 10,157 (25 from State and local government, 3,997 from for-profit and not-for-profit businesses, and 6,135 individuals).

The expected completed sample to be used to describe CACFP provider characteristics and the nutritional quality of foods offered includes 1,340 providers. Child care center and family day care home directors will complete the Provider Survey, and food preparers will complete the Menu Survey. Study staff will complete the Environmental Observation Form for a subset of 420 of these providers (no public burden is associated with this activity).

The expected completed sample that will be used to describe children's dietary intakes, physical activity, household characteristics, and plate waste includes 2,160 children and their parents or guardians. Parents and guardians will be recruited into the study and provide consent. Trained study staff will observe children's meals and snacks and plate waste using the Meal Observervation Booklet, and measure their height and weight using the Height and Weight Form. Parents and guardians will complete the Parent Interview and ASA24 for one in-care day and an ASA24 for one out-of-care day. Independent 10 percent subsamples of parents will complete a separate in- or out-of-care day ASA24 to estimate usual intakes of nutrients.

The expected completed sample that will be used to measure teens' physical activity and household characteristics includes 720 teens and their parents or guardians. Parents and guardians will be recruited into the study and provide consent. Teens will provide assent and complete the Food and Physical Activity Experiences Survey. Parents and guardians will complete the Teen Parent Interview.

The expected completed sample that will be used to measure infants' dietary intakes and physical activity while in care includes: (1) 548 food preparers who will complete the Infant Menu Survey, (2) 139 caregivers or teachers who will complete the Infant Intake Form, and (3) 375 parents/guardians who will be recruited into the study, provide consent, and report infant weight-for age.

The expected completed sample that will be used to estimate the cost to produce CACFP meals and snacks includes 444 providers. Individuals who complete data collection will include sponsor and provider staff. Sponsor program staff or center directors will complete the Pre-Visit Cost Interview, Pre-Visit Cost Form, and Sponsor/Center Cost Interview. Center directors will complete the Center Director Cost Interview and Self-Administered Cost Questionnaire. Food preparers will complete the Center Food Service Cost Interview.

Estimated Number of Responses per Respondent: All respondents will be asked to respond to each specific data collection activity only once. The overall average number of responses per respondent across the entire data collection is 2.31.

Estimated Total Annual Responses: 41,514.

Estimated Time per Response: 37 minutes (0.62 hours). The estimated time of response varies from 2 minutes to 2.49 hours depending on respondent group, as shown in the table below.

Estimated Total Annual Burden on Respondents: 25,843 hours. This includes 24,252 hours for respondents and 1,591 hours for nonrespondents. See the table below for estimated total annual burden for each type of respondent.

Cindy Long,
Acting Administrator, Food and Nutrition Service.

BILLING CODE 3410-30-P

[FR Doc. 2021-03228 Filed 2-17-21; 8:45 am]

BILLING CODE 3410-30-C